DEPARTMENT OF LABOR

Mine Safety and Health Administration

30 CFR Part 57

RIN 1219-AB29

Diesel Particulate Matter Exposure of Underground Metal and Nonmetal Miners

AGENCY: Mine Safety and Health Administration (MSHA), Labor.

ACTION: Final rule; corrections.

SUMMARY: This document contains corrections to the final rule addressing “Diesel Particulate Matter Exposure of Underground Metal and Nonmetal Miners,” and published in the Federal Register on Thursday, May 18, 2006 (71 FR 28924).

DATES: The corrections to the preamble are effective June 27, 2006. The correction to § 57.5060(d) is effective August 16, 2006.

FOR FURTHER INFORMATION CONTACT: Patricia W. Silvey, Acting Director, Office of Standards, Regulations, and Variances, MSHA, 1100 Wilson Blvd., Room 2350, Arlington, Virginia 22209-3939; 202-693-9440 (telephone); or 202-693-9441 (facsimile).

This document is available on the Internet at http://www.msha.gov/REGSINFO.HTM.

SUPPLEMENTARY INFORMATION: As published, the preamble and rule text contain errors which may be misleading and need to be corrected.

Accordingly, the preamble is corrected as follows:

1. On page 28926, in the second column, in the third full paragraph, at the end of the paragraph, insert “(70 FR 55019).”

2. On page 28926, in the third column, at the end of the third line, insert “(71 FR 4331).”

3. On page 28928, in the first column, in the second paragraph, eighth line from the bottom, change “regulation” to “standard.”

4. On page 28929, in Table IV-3, under the column entitled, “Description,” in the fourth paragraph, in the last line, change “PM10” to “PM10.”

5. On page 28971, in the first column, first full paragraph, in the last line, delete the word “approach,” and replace it with the word “be.”

6. On page 29007, in the second column, in the reference for “Gavett,” in the last line, change “0124(l-3)” to “0124(1-3).”

7. On page 29007, in the third column, in the tenth line from the bottom, change “12(l-2)” to “12(1-2).”

8. On page 29008, in the first column, in the eighth line from the bottom, change “B6C3Fl” to “B6C3F1.”

In addition, the rule text is corrected as follows:

§ 57.5060 [Corrected]

1. On page 29012, in the first column, under § 57.5060 paragraph (d), fourth line, delete the “s” from the word “exposures” so that the sentence now reads, “The mine operator must install, use, and maintain feasible engineering and administrative controls to reduce a miner's exposure to or below the applicable DPM PEL established in this section.”

Dated: June 21, 2006.
Patricia W. Silvey,
Acting Director, Office of Standards, Regulations and Variances.

[FR Doc. E6-10084 Filed 6-26-06; 8:45 am]

BILLING CODE 4510-43-P